CORPORATION FOR NATIONAL AND COMMUNITY SERVICE

Senior Corps; Schedule of Income Eligibility Levels

AGENCY: Corporation for National and Community Service.

ACTION: Notice.

SUMMARY: This Notice revises the schedules of income eligibility levels for participation in the Foster Grandparent Program (FGP) and the Senior Companion Program (SCP) of the Corporation for National and Community Service, published in 69 FR 16527-16529, March 30, 2004.

DATES: These guidelines are effective as of March 1, 2005.

FOR FURTHER INFORMATION CONTACT: Corporation for National and Community Service, Peter L. Boynton, Senior Program Officer, Senior Corps, 1201 New York Avenue, NW., Washington, DC 20525, by telephone at (202) 606-5000, ext. 554, or e-mail: seniorfeedback@cns.gov.

SUPPLEMENTARY INFORMATION: The revised schedules are based on changes in the Poverty Guidelines issued by the Department of Health and Human Services (DHHS), published in 70 FR 8373-8375, February 18, 2005. In accordance with program regulations, the income eligibility level for each State, Puerto Rico, the Virgin Islands and the District of Columbia is 125 percent of the DHHS Poverty Guidelines, except in those areas determined by the Corporation to be of higher cost of living. In such instances, the guidelines shall be 135 percent of the DHHS Poverty levels (See attached list of High Cost Areas). The level of eligibility is rounded to the next higher multiple of $5.00

In determining income eligibility, consideration should be given to the following, as set forth in 45 CFR 2551-2553 dated October 1, 1999, as amended per the Federal Register, Vol. 67, No. 188, Friday, September 27, 2002, Vol. 69, No.72, Wednesday, April 14, 2004, and Vol. 69, No. 75, Monday, April 19, 2004.

Allowable medical expenses are annual out-of-pocket expenses for health insurance premiums, health care services, and medications provided to the applicant, enrollee, or spouse and were not and will not be paid for by Medicare, Medicaid, other insurance, or by any other third party, and must not exceed 50 percent of the applicable Corporation income guideline.

Annual income is counted for the past 12 months, for serving SCP and FGP volunteers, and is projected for the subsequent 12 months, for applicants to become SCP and FGP volunteers, and includes: The applicant or enrollee's income and the applicant or enrollee's spouse's income, if the spouse lives in the same residence. Sponsors must count the value of shelter, food, and clothing, if provided at no cost to the applicant, enrollee or spouse. Any person whose income is not more than 100 percent of the DHHS Poverty Guideline for her/his specific family unit shall be given special consideration for participation in the Foster Grandparent and Senior Companion Programs:

2005 FGP/SCP Income Eligibility Levels
[Based on 125 percent of DHHS poverty guidelines]
States | Family units of: One | Family units of: Two | Family units of: Three | Family units of: Four
All, except High Cost Areas, Alaska & Hawaii | $11,965 | $16,040 | $20,115 | $24,190
For family units with more than four members, add $4,075 for each additional member in all States except designated High Cost Areas, Alaska and Hawaii.

2005 FGP/SCP Income Eligibility Levels for High Cost Areas
[Based on 135 percent of DHHS poverty guidelines]
States | Family units of: One | Family units of: Two | Family units of: Three | Family units of: Four
All, except Alaska & Hawaii | $12,920 | $17,325 | $21,725 | $26.125
Alaska | 16,135 | 21,645 | 27,015 | 32,660
Hawaii | 14,865 | 19,930 | 24,990 | 30,055
For family units with more than four members, add: $4,405 for all areas, $5,510 for Alaska, and $5,065 for Hawaii, for each additional member.

The income eligibility levels specified above are based on 135 percent of the DHHS poverty guidelines and are applicable to the following high cost metropolitan statistical areas and primary metropolitan statistical areas:

High Cost Areas

(Including all Counties/Locations Included in that Area as Defined by the Office of Management and Budget)

Alaska

(All Locations)

California

Inyo Mono County

Los Angeles/Compton/San Gabriel/Long Beach/Hawthorne (Los Angeles County)

Santa Barbara/Santa Maria/Lompoc (Santa Barbara County)

Santa Cruz/Watsonville (Santa Cruz County)

Santa Rosa/Petaluma (Sonoma County)

San Diego/El Cajon (San Diego County)

San Jose/Los Gatos (Santa Clara County)

San Francisco/San Rafael (Marin County)

San Francisco/Redwood City (San Mateo County)

San Francisco (San Francisco County)

Oakland/Berkeley (Alameda County)

Oakland/Martinez (Contra Costa County)

Anaheim/Santa Ana (Orange County)

Oxnard/Ventura (Ventura County)

Connecticut

Stamford (Fairfield)

District of Columbia/Maryland/Virginia

District of Columbia and surrounding Counties in Maryland and Virginia.

MD Counties: Anne Arundel, Calvert, Charles, Cecil, Frederick, Howard, Montgomery, Prince George's, and Queen Anne's Counties

VA Counties: Arlington, Fairfax, Loudoun, Prince William, Stafford, Alexandria City, Fairfax City, Falls Church City, Manassas City, and Manassas Park City

Hawaii

(All Locations)

Illinois

Chicago/Des Plaines/Oak Park/Wheaton/Woodstock (Cook, DuPage and McHenry Counties)

Lake County

Massachusetts

Barnstable (Barnstable)

Edgartown (Dukes)

Boston/Malden (Essex, Norfolk, Plymouth, Middlesex and Suffolk Counties)

Worcester (Worcester City)

Brockton/Wellesley/Braintree/Boston (Norfolk County)

Dorchester/Boston (Suffolk County)

Worcester (City) (Worcester County)

New Jersey

Bergen/Passaic/Patterson (Bergen and Passaic Counties)

Jersey City (Hudson)

Middlesex/Somerset/Hunterdon (Hunterdon, Middlesex and Somerset Counties)

Monmouth/Ocean/Spring Lake (Monmouth and Ocean Counties)

Newark/East Orange (Essex, Morris, Sussex and Union Counties)

Trenton (Mercer County)

New York

Nassau/Suffolk/Long Beach/Huntington (Suffolk and Nassau Counties)

New York/Bronx/Brooklyn (Bronx, King, New York, Putnam, Queens, Richmond and Rockland Counties)

Westchester/White Plains/Yonkers/Valhalla (Westchester County)

Ohio

Medina/Lorain/Elyria (Medina/Lorain County)

Pennsylvania

Philadelphia/Doylestown/West Chester/Media/Norristown (Bucks, Chester, Delaware, Montgomery and Philadelphia Counties)

Washington

Seattle (King County)

Wyoming

(All Locations)

The revised income eligibility levels presented here are calculated from the base DHHS Poverty Guidelines now in effect as follows:

2005 DHHS Poverty Guidelines for All States
States | Family Units of: One | Family Units of: Two | Family Units of: Three | Family Units of: Four
All, except Alaska & Hawaii | $9,570 | $12,830 | $16,090 | $19,350
Alaska | 11,950 | 16,030 | 20,010 | 24,190
Hawaii | 11,010 | 14,760 | 18,510 | 22,260
For family units with more than four members, add: $3,260 for all areas, $4,080 for Alaska, and $3,750 for Hawaii, for each additional member.

Authority: These programs are authorized pursuant to 42 U.S.C. 5011 and 5013 of the Domestic Volunteer Service Act of 1973, as amended. The income eligibility levels are determined by the current guidelines published by DHHS pursuant to Sections 652 and 673(2) of the Omnibus Budget Reconciliation Act of 1981 which requires poverty guidelines to be adjusted for Consumer Price Index changes.

Dated: April 4, 2005.
Tess Scannell,
Director, Senior Corps.

[FR Doc. 05-6983 Filed 4-7-05; 8:45 am]

BILLING CODE 6050-$$-P